DEPARTMENT OF AGRICULTURE

Forest Service

Procedures Involving Hydropower Licensing on National Forest System Lands

AGENCY: Forest Service, USDA.

ACTION: Notice of issuance of agency directive.

SUMMARY: The Forest Service is issuing an amendment to Forest Service Manual (FSM) chapter 2770 to guide its employees regarding certain procedures for hydropower licensing on National Forest System lands. The amendment addresses internal agency procedures and provides for increased efficiency in processing hydropower applications for licensing. The amendment also clarifies the roles of the Forest Service and the Federal Energy Regulatory Commission (FERC) in licensing hydropower projects affecting National Forest System lands and resources. The procedures established in the amendment streamline the application process, but they do not limit or preclude the opportunity for interested parties and the general public to be involved during the analysis for project-specific licensing by FERC.

DATES: This amendment is effective October 14, 2003.

ADDRESSES: This amendment (Amendment No. 2700-2003-2) is available electronically from the Forest Service via the World Wide Web/Internet at http://www.fs.fed.us/im/directives. Single paper copies of the amendment are also available by contacting Robert Cunningham, Lands Staff (Mail Stop 1124), Forest Service, 1400 Independence Avenue, SW., Washington, DC 20250-1124, telephone: (202) 205-2494.

FOR FURTHER INFORMATION CONTACT: Robert Cunningham, Lands Staff (202) 205-2494.

Dated: October 7, 2003.
Dale N. Bosworth,
Chief.

[FR Doc. 03-25923 Filed 10-10-03; 8:45 am]

BILLING CODE 3410-11-P